DEPARTMENT OF HEALTH AND HUMAN SERVICES

Centers for Disease Control and Prevention

[60Day-17-17AMP; Docket No. CDC-2017-0057]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Evaluation of the SAMHSA Naloxone Education and Distribution Program.” CDC will use the information collected to evaluate the program “Substance Abuse and Mental Health Services Agency (SAMHSA) Grants to Prevent Prescription Drug/Opioid Overdose-Related Deaths.” The program was recently funded to improve access to treatment for opioid use disorders, reduce opioid related deaths, and strengthen drug misuse prevention efforts.

DATES: Written comments must be received on or before September 15, 2017.

ADDRESSES: You may submit comments, identified by Docket No. CDC-2017-0057 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact LeRoy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Evaluation of the SAMHSA Naloxone Education and Distribution Program—New—National Center for Injury Prevention and Control (NCIPC), Centers for Disease Control and Prevention (CDC).

Background and Brief Description

Overdose deaths involving prescription opioids and heroin have reached epidemic levels in the U.S. and continue to rise. To address the prescription drug/opioid overdose crisis, the federal government has recently allocated funding to improve access to treatment for opioid use disorders, reduce opioid related deaths, and strengthen drug misuse prevention efforts. One program resulting from the federal government's efforts to address the opioid crisis is, the Substance Abuse and Mental Health Services Agency (SAMHSA) Grants to Prevent Prescription Drug/Opioid Overdose-Related Deaths (PDO/naloxone grant). This collection will be to evaluate the Substance Abuse and Mental Health Services Agency (SAMHSA) Grants to Prevent Prescription Drug/Opioid Overdose-Related Deaths.

This evaluation will seek to describe and understand the scope and impact of the program on overdose. To address the prescription drug/opioid overdose crisis, the federal government has recently allocated funding to improve access to treatment for opioid use disorders, reduce opioid related deaths, and strengthen drug misuse prevention efforts. One program resulting from the federal government's efforts to address the opioid crisis is, the Substance Abuse and Mental Health Services Agency (SAMHSA) Grants to Prevent Prescription Drug/Opioid Overdose-Related Deaths (PDO/naloxone grant). Through this program, SAMHSA awarded funding to 12 states. The funding is aimed at reducing the number of prescription drug/opioid overdose-related deaths and adverse events among individuals 18 years of age and older through educating and training first responders and other key community sectors on the prevention of prescription drug/opioid overdose-related deaths, including the purchase and distribution of naloxone. SAMHSA is funding the grant and CDC is responsible for conducting the grantee evaluation.

The intended use of the resulting data is to increase CDC and SAMHSA understanding of the scope and impact of the program on overdose fatalities and how program effectiveness may vary among different sub-populations and settings, and to increase knowledge of barriers and facilitators to program implementation. Key informant interviews and focus groups with participants in the activities enacted by the twelve state grant recipients will be methodology used. This will include state administrators of the grant and other PDO/Naloxone stakeholders including advisory council members, first responders, social service providers, laypersons including end users and their family and friend. All focus groups and interviews will be analyzed through qualitative content analysis, including utilization of a systematic coding scheme.

Total burden in hours for this collection is 381. There are no costs to respondents other than their time.

Estimated Annualized Burden Hours
Type of respondents | Form name | Number of respondents | Number of responses per respondent | Average burden per response (in hours) | Total burden (in hours)
PDO/Naloxone Advisory Committee Members and Grantees | Focus Group Discussion Guide | 140 | 1 | 1.5 | 210
PDO/Naloxone Grantees | Individual Interview Discussion Guide for Grantees | 36 | 1 | 1 | 36
PDO/Naloxone Stakeholders and Partners | Individual Interview Discussion Guide for Partners | 84 | 1 | 1 | 84
PDO/Naloxone Laypersons | Individual Interview Discussion Guide for Laypersons | 24 | 1 | 1 | 24
All participants (PDO Naloxone grantees, advisory committee, stakeholders and partners, laypersons) | Recruitment contact script | 284 | 1 | 5/60 | 24
PDO/Naloxone Grantees | Key Informant Selection Tool | 12 | 1 | 15/60 | 3
Total |  |  |  |  | 381

Leroy A. Richardson,
Chief, Information Collection Review Office, Office of Scientific Integrity, Office of the Associate Director for Science, Office of the Director, Centers for Disease Control and Prevention.

[FR Doc. 2017-14914 Filed 7-14-17; 8:45 am]

BILLING CODE 4163-18-P